DEPARTMENT OF THE INTERIOR

Bureau of Land Management

[LLNV912000 L16400000.PH0000 LXSS006F0000 261A; 10-08807; MO#4500012081; TAS: 14X1109]

Notice of Public Meeting: Sierra Front-Northwestern Great Basin Resource Advisory Council, NV

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Sierra Front-Northwestern Great Basin Resource Advisory Council (RAC), will meet in Winnemucca, Nevada. The meeting is open to the public.

Dates and Times: July 13-14, 2010, at the BLM Winnemucca District Office, 5100 E. Winnemucca Blvd., Winnemucca, Nevada. A field trip to locations in Humboldt County will occur on July 14. Approximate meeting times are 9 a.m. to 5 p.m. and will include a general public comment period, tentatively scheduled for 1 p.m. on July 13, unless otherwise listed in the final meeting agenda that will be available two weeks prior to the start of the meeting.

FOR FURTHER INFORMATION CONTACT: Mark Struble, (775) 885-6107, E-mail: mstruble@blm.gov.

SUPPLEMENTARY INFORMATION: The 15-member Council advises the Secretary of the Interior, through the BLM, on a variety of planning and management issues associated with public land management in Nevada.

Topics for discussion will include, but are not limited to: District Manager's reports on current program of work, Draft Winnemucca RMP/EIS, Wilderness Area Planning, Cheat Grass Die-Off Implications, Renewable Energy Projects Updates, Water Issues with Renewable Energy Projects, Black Rock Stimulus Projects, and other issues that may arise during the meeting.

The final agendas with any additions/corrections to agenda topics, locations, field trips and meeting times, will be posted on the BLM Web site at: http://www.blm.gov/nv/st/en/fo/carson_city_field.html, and sent to the media at least 14 days before the meeting. Individuals who need special assistance such as sign language interpretation or other reasonable accommodations, or who wish to receive a copy of each agenda, should contact Mark Struble no later than July 6, 2010.

Dated: May 5, 2010.
Christopher J. McAlear,
Carson City District Manager, (RAC Designated Federal Official)

[FR Doc. 2010-11362 Filed 5-11-10; 8:45 am]

BILLING CODE 4310-HC-P